DEPARTMENT OF HEALTH AND HUMAN SERVICES

Food and Drug Administration

[Docket No. FDA-2009-N-0606]

General and Plastic Surgery Devices Panel of the Medical Devices Advisory Committee; Amendment of Notice

AGENCY: Food and Drug Administration, HHS.

ACTION: Notice.

SUMMARY: The Food and Drug Administration (FDA) is announcing an amendment to the notice of a meeting of the General and Plastic Surgery Devices Panel of the Medical Devices Advisory Committee. This meeting was announced in the Federal Register of November 17, 2009 (74 FR 59194). The amendment is being made to reflect a change in the Contact Person and Procedure portions of the document, and to provide notice of the availability of a docket for public comment. There are no other changes.

FOR FURTHER INFORMATION CONTACT: Margaret McCabe-Janicki, Center for Devices and Radiological Health, Food and Drug Administration, 10903 New Hampshire Ave., White Oak 66, rm. 1535, Silver Spring, MD 20993, 301-796-7029, or FDA Advisory Committee Information Line, 1-800-741-8138 (301-443-0572 in the Washington, DC area), code 3014512519. Please call the Information Line for up-to-date information on this meeting.

SUPPLEMENTARY INFORMATION: In FR Doc. E9-27491, appearing on page 59194, in the Federal Register of Tuesday, November 17, 2009, the following corrections are made:

1. On page 59194, in the second column, under Contact Person, the first six lines “Peter L. Hudson, Center for Devices and Radiological Health, Food and Drug Administration, 10903 New Hampshire Ave., White Oak 66, rm. 3618, Silver Spring, MD 20993, 301-796-6440 or FDA Advisory” are removed and replaced with “Margaret McCabe-Janicki, Center for Devices and Radiological Health, Food and Drug Administration, 10903 New Hampshire Avenue., White Oak 66, rm. 1535, Silver Spring, MD 20993, 301-796-7029, or FDA Advisory”.

2. On page 59194, in the third column, a Comments portion is added before the Agenda portion of the document to read: “Comments: FDA is opening a docket for public comment on this document. The docket number is FDA-2009-N-0606. The docket will open for public comment on January 11, 2010. The docket will close on March 19, 2010. Interested persons may submit electronic or written comments regarding this document. Submit electronic comments to http://www.regulations.gov. Submit written comments to the Division of Dockets Management, Food and Drug Administration, 5630 Fishers Lane, rm. 1061, Rockville, MD 20852. Submit a single copy of electronic comments or two paper copies of any mailed comments, except that individuals may submit one paper copy. Comments are to be identified with the docket number found in brackets in the heading of this document. Received comments may be seen in the Division of Dockets Management between 9 a.m. and 4 p.m., Monday through Friday.”

3. On pages 59194 and 59195, beginning on page 59194 in the third column, under Procedure, the year “2009” is changed to read “2010” everywhere that it appears.

This notice is issued under the Federal Advisory Committee Act (5 U.S.C. app. 2) and 21 CFR part 14, relating to the advisory committees.

Dated: January 5, 2010.
David Dorsey,
Acting Deputy Commissioner for Policy, Planning and Budget.

[FR Doc. 2010-172 Filed 1-8-10; 8:45 am]

BILLING CODE 4160-01-S